DEPARTMENT OF HEALTH AND HUMAN SERVICES

Centers for Disease Control and Prevention Agency for Toxic Substances and Disease Registry

Senior Executive Service; Performance Review Board Members

AGENCY: Centers for Disease Control and Prevention (CDC), and Agency for Toxic Substances and Disease Registry (ATSDR), Department of Health and Human Services.

ACTION: Notice.

SUMMARY: Title 5, U.S. Code, Section 4314 (c)(4) of the Civil Service Reform Act of 1978, Public Law 95-454, requires that appointment of Performance Review Board members be published in the Federal Register.

FOR FURTHER INFORMATION CONTACT: Nancy Peterson, Atlanta Human Resources Center, Department of Health and Human Services, 4770 Buford Highway, Mailstop K-07, Atlanta, Georgia 30341-3724, telephone 770-488-1872.

SUPPLEMENTARY INFORMATION: The following persons will serve on the Performance Review Board which oversees the evaluation of performance appraisals of Senior Executive Service members of the Department of Health and Human Services in the Centers for Disease Control and Prevention, and the Agency for Toxic Substances and Disease Registry: William H. Gimson, Chairperson; Stephen B. Blount, M.D., M.P.H.; Janet L. Collins, Ph.D.; Robert Delaney; Henry Falk, M.D.; Donna F. Stroup, Ph.D.; Stephen B. Thacker, M.D.

The Associate Director for Program Services, CDC, has been delegated the authority to sign general Federal Register notices for both the CDC and ATSDR.

Dated: October 7, 2004.
James D. Seligman, Associate Director for Program Services Centers for Disease Control and Prevention (CDC).

[FR Doc. 04-23146 Filed 10-14-04; 8:45 am]

BILLING CODE 4163-18-P